DEPARTMENT OF HOMELAND SECURITY

Federal Emergency Management Agency

[Docket ID FEMA-2022-0002; Internal Agency Docket No. FEMA-B-2273]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before January 19, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2273, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Assistant Administrator for Risk Management (Acting), Federal Emergency Management Agency, Department of Homeland Security.

Community | Community map repository address
Stark County, North Dakota and Incorporated Areas
Projects: 21-08-0008S and 15-08-0156S Preliminary Date: April 6, 2022
City of Dickinson | City Hall, 38 1st Street West, Dickinson, ND 58601.
City of Gladstone | City Hall, 183 5th Avenue, Gladstone, ND 58630.
City of Richardton | City Hall, 111 North Avenue West, Richardton, ND 58652.
City of South Heart | City Hall, 209 4th Street Northwest, South Heart, ND 58655.
City of Taylor | City Hall, 30 Ertel Avenue, Taylor, ND 58656.
Unincorporated Areas of Stark County | Stark County Courthouse, 51 3rd Street East, Dickinson, ND 58601.
Clark County, South Dakota and Incorporated Areas
Project: 20-08-0001S Preliminary Date: May 13, 2022
City of Clark | City Hall, 120 North Commercial Street, Clark, SD 57225.
Town of Raymond | Fire Department, 201 Flower Street, Raymond, SD 57258.
Town of Willow Lake | Fire Hall, 211 Garfield Avenue, Willow Lake, SD 57278.
Unincorporated Areas of Clark County | Clark County Registrar's Office, 200 North Commercial Street, Clark, SD 57225.
Day County, South Dakota and Incorporated Areas
Project: 18-08-0044S Preliminary Date: June 11, 2021
City of Waubay | City Hall, 45 North Main Street, Waubay, SD 57273.
City of Webster | City Hall, 800 Main Street, Webster, SD 57274.
Sisseton Wahpeton Oyate Tribe | Sisseton Wahpeton Oyate Emergency Management Office, 12554 BIA Highway 711, Agency Village, SD 57262.
Town of Andover | City and Fire Department Building, 123 South Main Street, Andover, SD 57422.
Town of Grenville | Town Hall, 911 Kosciusko Avenue, Grenville, SD 57239.
Town of Pierpont | Water Storage Building, 207 South 2nd Avenue, Pierpont, SD 57468.
Unincorporated Areas of Day County | Day County Courthouse, 711 1st Street West, Webster, SD 57274.
Grant County, South Dakota and Incorporated Areas
Project: 18-08-0043S Preliminary Date: April 9, 2021
City of Big Stone City | Grant County Courthouse, 210 East 5th Avenue, Milbank, SD 57252.
City of Milbank | Grant County Courthouse, 210 East 5th Avenue, Milbank, SD 57252.
City of Twin Brooks | Grant County Courthouse, 210 East 5th Avenue, Milbank, SD 57252.
Sisseton Wahpeton Oyate Tribe | Sisseton Wahpeton Oyate Emergency Management Office, 12554 BIA Highway 711, Agency Village, SD 57262.
Town of Albee | Grant County Courthouse, 210 East 5th Avenue, Milbank, SD 57252.
Town of La Bolt | Grant County Courthouse, 210 East 5th Avenue, Milbank, SD 57252.
Town of Marvin | Grant County Courthouse, 210 East 5th Avenue, Milbank, SD 57252.
Town of Revillo | Grant County Courthouse, 210 East 5th Avenue, Milbank, SD 57252.
Town of Stockholm | Grant County Courthouse, 210 East 5th Avenue, Milbank, SD 57252.
Town of Strandburg | Grant County Courthouse, 210 East 5th Avenue, Milbank, SD 57252.
Unincorporated Areas of Grant County | Grant County Courthouse, 210 East 5th Avenue, Milbank, SD 57252.
Roberts County, South Dakota and Incorporated Areas
Project: 18-08-0042S Preliminary Date: October 16, 2020
City of Peever | Roberts County Courthouse, 411 2nd Avenue East, Sisseton, SD 57262.
City of Rosholt | Roberts County Courthouse, 411 2nd Avenue East, Sisseton, SD 57262.
City of Sisseton | Roberts County Courthouse, 411 2nd Avenue East, Sisseton, SD 57262.
City of Wilmot | Roberts County Courthouse, 411 2nd Avenue East, Sisseton, SD 57262.
Sisseton Wahpeton Oyate Tribe | Sisseton Wahpeton Oyate Emergency Management Office, 12554 BIA Highway 711, Agency Village, SD 57262.
Town of Claire City | Roberts County Courthouse, 411 2nd Avenue East, Sisseton, SD 57262.
Town of Corona | Roberts County Courthouse, 411 2nd Avenue East, Sisseton, SD 57262.
Town of New Effington | Roberts County Courthouse, 411 2nd Avenue East, Sisseton, SD 57262.
Town of Ortley | Roberts County Courthouse, 411 2nd Avenue East, Sisseton, SD 57262.
Town of Summit | Roberts County Courthouse, 411 2nd Avenue East, Sisseton, SD 57262.
Town of White Rock | Roberts County Courthouse, 411 2nd Avenue East, Sisseton, SD 57262.
Unincorporated Areas of Roberts County | Roberts County Courthouse, 411 2nd Avenue East, Sisseton, SD 57262.

[FR Doc. 2022-22974 Filed 10-20-22; 8:45 am]

BILLING CODE 9111-12-P